DEPARTMENT OF COMMERCE

International Trade Administration

[A-552-833]

Raw Honey From the Socialist Republic of Vietnam: Preliminary Results of Antidumping Duty Administrative Review; 2021-2023

AGENCY: Enforcement and Compliance, International Trade Administration, Department of Commerce.

SUMMARY: The U.S. Department of Commerce (Commerce) preliminarily determines that Ban Me Thout Honeybee Joint Stock Company (BMT), Daklak Honeybee Joint Stock Company (DakHoney), and 13 non-individually examined and separate-rate eligible exporters of raw honey from the Socialist Republic of Vietnam (Vietnam) sold subject merchandise to the United States at less than normal value (NV) during the period of review (POR) August 25, 2021, through May 31, 2023.

DATES: Applicable July 5, 2024.

FOR FURTHER INFORMATION CONTACT: Krisha Hill or Stephanie Trejo, AD/CVD Operations, Office IV, Enforcement and Compliance, International Trade Administration, U.S. Department of Commerce, 1401 Constitution Avenue NW, Washington, DC 20230; telephone: (202) 482-4037 or (202) 482-4390, respectively.

SUPPLEMENTARY INFORMATION:

Background

On June 10, 2022, Commerce published in the Federal Register the antidumping duty (AD) order on raw honey from Vietnam. On June 1, 2023, Commerce published in the Federal Register a notice of opportunity to request an administrative review of the Order.¹ In the June Opportunity Notice Commerce inadvertently listed an incorrect POR for this proceeding.² Commerce noted this error in its August Initiation Notice in which it initiated the review for this proceeding.³ Commerce also noted the error in a subsequent opportunity notice, giving parties a further opportunity to request an administrative review using the correct POR.⁴

¹ See Raw Honey From Argentina, Brazil, India, and the Socialist Republic of Vietnam: Antidumping Duty Orders, 87 FR 35501 (June 10, 2022) (Order); and Antidumping or Countervailing Duty Order, Finding, or Suspended Investigation; Opportunity To Request Administrative Review and Join Annual Inquiry Service List, 88 FR 35835 (June 1, 2023) (June Opportunity Notice).

² See June Opportunity Notice, 88 FR at 35837.

³ See Initiation of Antidumping and Countervailing Duty Administrative Reviews, 88 FR 51271, 51276 (August 3, 2023) (August Initiation Notice).

⁴ See Antidumping or Countervailing Duty Order, Finding, or Suspended Investigation; Opportunity To Request Administrative Review and Join Annual Inquiry Service List, 88 FR 50840 (August 2, 2023) (August Opportunity Notice).

On August 3, 2023, Commerce published in the Federal Register the initiation notice of an administrative review of the AD Order on raw honey from Vietnam.⁵ Commerce further published an addendum to the August Initiation Notice in which it initiated a review of raw honey from Vietnam for two companies, one that requested a review based on the August Opportunity Notice and one company for which Commerce failed to initiate a review based on its request for review made pursuant to the June Opportunity Notice.⁶ Commerce selected BMT and DakHoney as mandatory respondents in this administrative review.⁷

⁵ See August Initiation Notice.

⁶ See Raw Honey From the Socialist Republic of Vietnam: Addendum to Initiation of Antidumping Duty Administrative Review, 88 FR 65155 (September 21, 2023) (August Initiation Notice Addendum). The August Initiation Notice and August Initiation Notice Addendum list 35 companies. However, in the August Initiation Notice, Commerce mistakenly listed Hung Thinh Trading Pvt twice. Additionally, we note that review requests were filed for two separate companies with minor variations in their names: Daklak Honey Bee JSC and Daklak Honeybee Joint Stock Company, and Dong Nai Honey Bee Corp and Dongnai HoneyBee Corporation. Accordingly, Commerce initiated this administrative review with respect to the 32 companies.

⁷ See Memorandum, “Respondent Selection,” dated October 5, 2023.

On January 29, 2024, Commerce extended the deadline for these preliminary results to June 28, 2024.⁸ For a complete description of the events that followed the initiation of this administrative review, see the Preliminary Decision Memorandum.⁹

⁸ See Memorandum, “Extension of Deadline for Preliminary Results of Antidumping Duty Administrative Review,” dated January 29, 2024.

⁹ See Memorandum, “Decision Memorandum for the Preliminary Results of the Antidumping Duty Administrative Review: Raw Honey from the Socialist Republic of Vietnam; 2021-2023,” dated concurrently with, and hereby adopted by, this notice (Preliminary Decision Memorandum).

Scope of the Order

The product covered by this Order is raw honey from Vietnam. Raw honey is honey as it exists in the beehive or as obtained by extraction, settling and skimming, or coarse straining. The merchandise subject to this investigation is currently classifiable under statistical subheading 0409.00.0005, 0409.00.0035, 0409.00.0045, 0409.00.0056, and 0409.00.0065 of the Harmonized Tariff Schedule of the United States (HTSUS). Although the HTSUS subheadings are provided for convenience and customs purposes, the written description of the scope of this investigation is dispositive.

A full description of the scope of the Order is contained in the Preliminary Decision Memorandum.¹⁰

¹⁰ Id.

Separate Rates

The Act and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate-rate respondents which Commerce did not examine individually in an administrative review. Section 735(c)(5)(A) of the Act states that the all-others rate should be calculated by averaging the weighted-average dumping margins calculated for individually-examined respondents, excluding dumping margins that are zero, de minimis, or based entirely on facts available. For the preliminary results of this review, Commerce determined the estimated dumping margins for BMT and DakHoney to be 100.54 percent and 154.47 percent, respectively, and we have assigned to the separate-rate companies a rate of 120.92 percent, which is the weighted-average dumping margins of BMT and DakHoney weighted by their publicly ranged U.S. sales values.¹¹ For a listing of the separate rate companies, see Appendix II.

¹¹ With two respondents under examination, Commerce normally calculates: (A) a weighted-average of the dumping margins calculated for the examined respondents; (B) a simple average of the dumping margins calculated for the examined respondents; and (C) a weighted-average of the dumping margins calculated for the examined respondents using each company's publicly ranged U.S. sale quantities for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed Circumstances Review, and Revocation of an Order in Part, 75 FR 53661, 53663 (September 1, 2010).

Vietnam-Wide Entity

Under Commerce's policy regarding the conditional review of the Vietnam-wide entity,¹² the Vietnam-wide entity will not be under review unless a party specifically requests, or Commerce self-initiates, a review of the entity. Because no party requested a review of the Vietnam-wide entity in this review, the entity is not under review, and the entity's rate (i.e., 60.03 percent) is not subject to change.¹³

¹² See Antidumping Proceedings: Announcement of Change in Department Practice for Respondent Selection in Antidumping Duty Proceedings and Conditional Review of the Nonmarket Economy Entity in NME Antidumping Duty Proceedings, 78 FR 65963 (November 4, 2013).

¹³ See Order, 87 FR at 35503.

With the exception of BMT, DakHoney, and the companies listed in Appendix II, Commerce considers all other companies for which a review was requested and did not demonstrate separate rate eligibility to be part of the Vietnam-wide entity.¹⁴ For these preliminary results, we consider the following companies to be part of the Vietnam-wide entity because they did not file separate rate applications or certifications: (1) Bee Honey Corporation of Ho Chi Minh City; (2) Golden Bee Company Limited; (3) Golden Honey Co., Ltd.; (4) Hai Phong Honeybee Company Limited; (5) Highlands Honeybee Travel Co., Ltd.; (6) Hoa Viet Honeybee Co., Ltd.; (7) Hung Binh Phat; (8) Hung Thinh Trading Pvt; (9) Huong Rung Co., Ltd.; (10) Huong Viet Honey Co., Ltd.; (11) Nguyen Hong Honey Co., LTDTA; (12) Phong Son Co., Ltd.; (13) Saigon Bees Co., Limited; (14) Thai Hoa Mat Bees Raising Co., Ltd.; (15) Thai Hoa Viet Mat Bees Raising Co.; (16) TNB Foods Co., Ltd.; and (17) Vinawax Producing Trading and Service Company Limited. For additional information, see the Preliminary Decision Memorandum.

¹⁴ See August Initiation Notice, 88 FR at 51272 (“All firms listed below that wish to qualify for separate rate status in the administrative reviews involving NME countries must complete, as appropriate, either a Separate Rate Application or Certification, as described below.”).

Methodology

Commerce is conducting this review in accordance with section 751(a)(1)(B) of the Tariff Act of 1930, as amended (the Act). We calculated export price and constructed export price in accordance with section 772 of the Act. Because Vietnam is a non-market economy country within the meaning of section 771(18) of the Act, we calculated NV in accordance with section 773(c) of the Act. For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov. A list of topics discussed in the Preliminary Decision Memorandum is included in Appendix I of this notice. In addition, a complete version of the Preliminary Decision Memorandum can be found at https://access.trade.gov/public/FRNoticesListLayout.aspx.

Preliminary Results of the Administrative Review

Commerce preliminarily determines that the following weighted-average dumping margins exist for the administrative review covering the period August 25, 2021, through May 31, 2023:

¹⁵ See Appendix II.

Exporter | Estimated weighted- average dumping margin (percent)
Ban Me Thuot Honeybee Joint Stock Company | 100.54
Daklak Honeybee Joint Stock Company | 154.47
Separate Rate Companies ¹⁵ | 120.92
Vietnam-wide Entity | 60.03

Disclosure and Public Comment

We intend to disclose the calculations performed to parties within five days after public announcement of the preliminary results or, if there is no public announcement, within five days of the date of publication of this notice.¹⁶ Interested parties may submit case briefs no later than 30 days after the date of publication of this notice.¹⁷ Rebuttal briefs, limited to issues raised in the case briefs, may be filed not later than five days after the date for filing case briefs.¹⁸ Interested parties who submit case or rebuttal briefs in this proceeding must submit: (1) a table of contents listing each issue; and (2) a table of authorities.¹⁹

¹⁶ See 19 CFR 351.224(b).

¹⁷ See 19 CFR 351.309(c)(1)(ii); see also 19 CFR 351.303 (for general filing requirements).

¹⁸ See 19 CFR 351.309(d); see also Administrative Protective Order, Service, and Other Procedures in Antidumping and Countervailing Duty Proceedings, 88 FR 67069, 67077 (September 29, 2023).

¹⁹ See 19 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.²⁰ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).²¹

²⁰ We use the term “issue” here to describe an argument that Commerce would normally address in a comment of the Issues and Decision Memorandum.

²¹ See Administrative Protective Order, Service, and Other Procedures in Antidumping and Countervailing Duty Proceedings; Final Rule, 88 FR 67069 (September 29, 2023).

Interested parties who wish to request a hearing must submit a written request to the Assistant Secretary for Enforcement and Compliance, filed electronically via ACCESS.²² Requests should contain: (1) the party's name, address, and telephone number; (2) the number of participants and whether any participant is a foreign national; and (3) a list of issues to be discussed. Issues raised in the hearing will be limited to those raised in case and rebuttal briefs.²³ If a request for a hearing is made, Commerce intends to hold the hearing at a time and date to be determined. A hearing request must be filed electronically using ACCESS and received in its entirety by 5:00 p.m. Eastern Time within 30 days after the publication of this notice.

²² See 19 CFR 351.310(c).

²³ See 19 CFR 351.310.

Verification

As provided in section 782(i)(3) of the Act, Commerce intends to verify the information submitted by BMT and DakHoney in advance of the final results of this review.

Final Results of Review

Unless the deadline is extended, Commerce intends to issue the final results of this review, including the results of its analysis of the issues raised in any written briefs, no later than 120 days after the date of publication of this notice, pursuant to section 751(a)(3)(A) of the Act and 19 CFR 351.213(h).

Assessment Rates

Upon issuing the final results, Commerce will determine, and U.S. Customs and Border Protection (CBP) shall assess, antidumping duties on all appropriate entries covered by this review.²⁴ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

²⁴ See 19 CFR 351.212(b)(1).

For each individually examined respondent in this review whose weighted-average dumping margin in the final results of review is not zero or de minimis (i.e., less than 0.5 percent), Commerce intends to calculate importer/customer-specific assessment rates.²⁵ Where the respondent reported reliable entered values, Commerce intends to calculate importer/customer-specific ad valorem assessment rates by aggregating the amount of dumping calculated for all U.S. sales to the importer/customer and dividing this amount by the total entered value of the merchandise sold to the importer/customer.²⁶ Where the respondent did not report entered values, Commerce will calculate importer/customer-specific assessment rates by dividing the amount of dumping for reviewed sales to the importer/customer by the total quantity of those sales. Commerce will calculate an estimated ad valorem importer/customer-specific assessment rate to determine whether the per-unit assessment rate is de minimis; however, Commerce will use the per-unit assessment rate where entered values were not reported.²⁷ Where an importer/customer-specific ad valorem assessment rate is not zero or de minimis, Commerce will instruct CBP to collect the appropriate duties at the time of liquidation. Where either the respondent's weighted average dumping margin is zero or de minimis, or an importer/customer-specific ad valorem assessment rate is zero or de minimis, Commerce will instruct CBP to liquidate appropriate entries without regard to antidumping duties.²⁸

²⁵ See Antidumping Proceedings: Calculation of the Weighted Average Dumping Margin and Assessment Rate in Certain Antidumping Proceedings: Final Modification, 77 FR 8101 (February 14, 2012) (Final Modification).

²⁶ See 19 CFR 351.212(b)(1).

²⁷ Id.

²⁸ See Final Modification, 77 FR at 8103.

Pursuant to Commerce's refinement to its practice, for sales that were not reported in the U.S. sales database submitted by a respondent individually examined during this review, Commerce will instruct CBP to liquidate the entry of such merchandise at the dumping margin assigned to the Vietnam-wide entity.²⁹ For respondents not individually examined in this administrative review that qualified for a separate rate, the assessment rate will be equal to the weighted-average dumping margin assigned to the respondent in the final results of this review.³⁰

²⁹ For a full discussion of this practice, see Non-Market Economy Antidumping Proceedings: Assessment of Antidumping Duties, 76 FR 65694 (October 24, 2011).

³⁰ See Drawn Stainless Steel Sinks from the People's Republic of China: Preliminary Results of the Antidumping Duty Administrative Review and Preliminary Determination of No Shipments: 2014-2015, 81 FR 29528 (May 12, 2016), and accompanying PDM at 10-11, unchanged in Drawn Stainless Steel Sinks from the People's Republic of China: Final Results of Antidumping Duty Administrative Review; Final Determination of No Shipments; 2014-2015, 81 FR 54042 (August 15, 2016).

Additionally, where Commerce determines that an exporter under review had no shipments of subject merchandise to the United States during the POR, any suspended entries of subject merchandise that entered under that exporter's CBP case number during the POR will be liquidated at the dumping margin assigned to the Vietnam-wide entity.

In accordance with section 751(a)(2)(C) of the Act, the final results of this review shall be the basis for the assessment of antidumping duties on entries of merchandise covered by the final results of this review and for future deposits of estimated antidumping duties, where applicable.

Cash Deposit Requirements

The following cash deposit requirements will be effective for all shipments of the subject merchandise entered, or withdrawn from warehouse, for consumption on or after the publication date of the final results of this administrative review, as provided by section 751(a)(2)(C) of the Act: (1) for the exporters listed above, the cash deposit rate will be equal to the weighted-average dumping margins established in the final results of this review, except if the rate is de minimis, in which case the cash deposit rate will be zero; (2) for previously-examined Vietnamese and non-Vietnamese exporters not listed above that at the time of entry are eligible for a separate rate base on a prior completed segment of this proceeding, the cash deposit rate will continue to the be the existing exporter-specific cash deposit rate; (3) for all non-Vietnamese exporters of subject merchandise which at the time of entry do not have a separate rate, the cash deposit rate will be the rate applicable to the Vietnamese exporter that supplied the non-Vietnamese exporter. These cash deposit requirements, when imposed, shall remain in effect until further notice.

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

Commerce is issuing and publishing the preliminary results of this review in accordance with sections 751(a)(1)(B) and 777(i) of the Act, and 19 CFR 351.221(b)(4).

Dated: June 28, 2024.
Ryan Majerus,
Deputy Assistant Secretary for Policy and Negotiations, performing the non-exclusive functions and duties of the Assistant Secretary for Enforcement and Compliance.

Appendix I

List of Topics Discussed in the Preliminary Decision Memorandum

I. Summary

II. Background

III. Period of Review

IV. Scope of the Order

V. Discussion of the Methodology

VI. Currency Conversion

VII. Recommendation

Appendix II

List of Companies Eligible for Separate Rate

(1) Bao Nguyen Honeybee Co., Ltd.

(2) Daisy Honey Bee Joint Stock Company

(3) Dak Nguyen Hong Exploitation of Honey Company Limited TA

(4) Dongnai HoneyBee Corporation

(5) Hanoi Honey Bee Joint Stock Company

(6) Hoa Viet Honeybee One Member Company Limited

(7) Hoang Tri Honey Bee Co., Ltd.

(8) Huong Rung Trading-Investment and Export Company Limited

(9) Nhieu Loc Company Limited

(10) Southern Honey Bee Company Ltd.

(11) Spring Honeybee Co., Ltd.

(12) Thanh Hao Bees Co., Ltd.

(13) Viet Thanh Food Co., Ltd.

[FR Doc. 2024-14762 Filed 7-3-24; 8:45 am]

BILLING CODE 3510-DS-P